DEPARTMENT OF DEFENSE

Office of the Secretary

[Docket ID: DoD-2015-OS-0125]

Privacy Act of 1974; System of Records

AGENCY: National Guard Bureau, DoD.

ACTION: Notice to add a new System of Records.

SUMMARY: The National Guard Bureau proposes to add a new system of records INGB 009, entitled “National Guard Family Program Volunteers,” to document and manage volunteer activities including recruitment, training, recognition and support for eligible individuals who donate their services to the National Guard Family Program.

DATES: Comments will be accepted on or before December 16, 2015. This proposed action will be effective the day following the end of the comment period unless comments are received which result in a contrary determination.

ADDRESSES: You may submit comments, identified by docket number and title, by any of the following methods:

* Federal Rulemaking Portal:http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, 111 South George Mason Drive, AH2, Arlington, VA 22204-1373 or telephone: (703) 601-6884.

SUPPLEMENTARY INFORMATION: The National Guard Bureau notices for systems of records subject to the Privacy Act of 1974 (5 U.S.C. 552a), as amended, have been published in the Federal Register and are available from the address in FOR FURTHER INFORMATION CONTACT or from the Defense Privacy and Civil Liberties Division Web site at http://dpcld.defense.gov/.

The proposed system report, as required by 5 U.S.C. 552a(r) of the Privacy Act of 1974, as amended, was submitted on October 23, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 10, 2015.
Aaron Siegel,
Alternate OSD Federal Register Liaison Officer, Department of Defense.

INGB 009

System name:

National Guard Family Program Volunteers.

System location:

National Guard Bureau (NGB) Family Program, 111 South George Mason Drive, Arlington Hall 2, Arlington, VA 22204-1373.

Categories of individuals covered by the system:

Any individual that volunteers to participate in the National Guard Family Program.

Categories of records in the system:

Individual's name, mailing address, email address, telephone numbers, DoD ID Number, date of birth, gender, qualifications/skills, interests, program surveys, recommendation letters, volunteer awards, volunteer hours, volunteer services provided, start and completion date of volunteer service, volunteer training and incidental reimbursement expenses, sponsor name, background suitability check determination and completion date, employment and education information.

For individuals under the age of 18 the following additional data may be in the record: Parental consent letter, report card, medication dispensation permission, health history including allergies, dietary restrictions, emergency contact information, signatures authorizing program/training participation and emergency treatment.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Authority for maintenance of the system:

10 U.S.C. 10502, Chief of the National Guard Bureau: Appointment; adviser on National Guard matters; grade; succession; 10 U.S.C. 10503, Functions of National Guard Bureau: Charter; 10 U.S.C. 1588, Authority to accept certain voluntary services; DoDD 5105.77, National Guard Bureau (NGB); DoD Instruction 1100.21, Voluntary Services in the Department of Defense; and National Guard Regulation 600-12/Air National Guard Instruction 36-3009, National Guard Family Program.

Purpose(s):

To document and manage volunteer activities including recruitment, training, recognition and support for eligible individuals who donate their services to the National Guard Family Program.

Routine uses of records maintained in the system including categories of users and the purpose of such uses:

In addition to those disclosures generally permitted under 5 U.S.C. 552a(b) of the Privacy Act of 1974, as amended, the records contained therein may specifically be disclosed outside the DoD as a routine use pursuant to 5 U.S.C. 552a(b)(3) as follows:

The DoD Blanket Routine Uses set forth at the beginning of the National Guard Bureau's compilation of systems of records notices may apply to this system. The complete list of DoD blanket routine uses can be found online at: http://dpcld.defense.gov/Privacy/SORNsIndex/BlanketRoutineUses.aspx.

Policies and practices for storing, retrieving, accessing, retaining, and disposing of records in the system:

Storage:

Paper files and electronic storage media.

Retrievability:

Records are retrieved by the full name of volunteer in Joint Service Support (JSS).

Safeguards:

Records are maintained in monitored or controlled areas accessible only to authorized personnel. Electronic records are protected by software programs that are password protected or restricted from access through use of the Common Access Card (CAC) by National Guard personnel that have a need-to-know in the performance of their official duties.

Retention and disposal:

Disposition pending (treat as permanent until the National Archives and Records Administration has approved the retention and disposal schedule).

System manager(s) and address:

National Guard Bureau (NGB) Family Program, 111 South George Mason Drive, Arlington Hall 2, Arlington, VA 22204-1373.

Notification procedure:

Individuals seeking to determine whether this system of records contains information about themselves should address written inquiries to National Guard Bureau (NGB), Manpower and Personnel Directorate (J1), Family Programs; 111 South George Mason Drive, Arlington Hall 2, Arlington, VA 22204-1373.

Written requests must include the individual's DoD ID number or their name and date of birth, and full mailing address to receive a response.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system of records should address written inquiries to National Guard Bureau (NGB), Manpower and Personnel Directorate (J1), Family Programs; 111 South George Mason Drive, Arlington Hall 2, Arlington, VA 22204-1373.

Written requests must include the individual's DoD ID number or their name and date of birth, and full mailing address to receive a response.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting records procedures:

The National Guard Bureau's rules for accessing records, and for contesting contents, and appealing initial agency determinations are published at 32 CFR part 329 or may be obtained from the system manager.

Record source categories:

Information is collected directly from the individual when registering as a volunteer.

Exemptions claimed for the system:

None.

[FR Doc. 2015-28920 Filed 11-13-15; 8:45 am]

BILLING CODE 5001-06-P